DEPARTMENT OF TRANSPORTATION

Federal Aviation Administration

14 CFR Part 39

[Docket No. 2003-NM-90-AD; Amendment 39-13804; AD 2004-19-10]

RIN 2120-AA64

Airworthiness Directives; Boeing Model 737-100, -200, -200C, -300, -400, and -500 Series Airplanes

AGENCY: Federal Aviation Administration, DOT.

ACTION: Final rule; correction.

SUMMARY: This document corrects a typographical error that appeared in airworthiness directive (AD) 2004-19-10 that was published in the Federal Register on September 27, 2004 (69 FR 57632). The typographical error resulted in the omission of the AD number in one location of the document. This AD is applicable to certain Boeing Model 737-100, -200, -200C, -300, -400, and -500 series airplanes. This AD requires repetitive inspections for corrosion and cracking of the pivot hinge pins of the horizontal stabilizer, certain follow-on inspections, and replacement of the hinge pins with new or serviceable pins if necessary.

DATES: Effective November 1, 2004.

FOR FURTHER INFORMATION CONTACT: Nancy Marsh, Aerospace Engineer, Airframe Branch, ANM-120S, FAA, Seattle Aircraft Certification Office, 1601 Lind Avenue, SW., Renton, Washington 98055-4056; telephone (425) 917-6440; fax (425) 917-6590.

SUPPLEMENTARY INFORMATION: Airworthiness Directive (AD) 2004-19-10, amendment 39-13804, applicable to certain Boeing Model 737-100, -200, -200C, -300, -400, and -500 series airplanes, was published in the Federal Register on September 27, 2004 (69 FR 57632). That AD requires repetitive inspections for corrosion and cracking of the pivot hinge pins of the horizontal stabilizer, certain follow-on inspections, and replacement of the hinge pins with new or serviceable pins if necessary.

As published, the AD number is missing in the Product Identification line in the regulatory text of the AD. The correct AD number is 2004-19-10. The AD number is referenced correctly throughout the remainder of the AD.

Since no other part of the regulatory information has been changed, the final rule is not being republished in the Federal Register.

The effective date of this AD remains November 1, 2004.

§ 39.13 [Corrected]

On page 57634, in the third column, the Product Identification line of AD 2004-19-10 is corrected to read as follows:

* * * * *

2004-19-10 Boeing: Amendment 39-13804. Docket 2003-NM-90-AD.

* * * * *

Issued in Renton, Washington, on October 18, 2004.
Kalene C. Yanamura,
Acting Manager, Transport Airplane Directorate, Aircraft Certification Service.

[FR Doc. 04-23928 Filed 10-25-04; 8:45 am]

BILLING CODE 4910-13-P